DEPARTMENT OF DEFENSE

Office of the Secretary

Notice of Intent To Seek Public and Private Organizations, Associations, and Other Entities Which Are Working on the West, East, and North Coasts of Africa in the Maritime Domain Sector To Participate as Military Exercise Observers in Order To Enhance U.S. Military and Host Nation Maritime Security Forces' Exercise Fidelity and Effectiveness, and To Improve Maritime Domain Awareness

AGENCY: United States Africa Command (USAFRICOM), DOD.

ACTION: Notice of intent to obtain expressions of interest from organizations active on the West, East, and North Coasts of Africa for the purpose of information sharing.

SUMMARY: This notice announces that the U.S. Africa Command (USAFRICOM) is seeking information about, and expressions of interest by, organizations, associations, and other entities, both public and private, which are currently working on the West, East, and North Coasts of Africa in the areas of maritime domain awareness and maritime security. This information and expressions of interest in observing the aforementioned exercises is being solicited to inform USAFRICOM and African Host Nations of potential public and private sector capability to improve maritime security. It is expected that these private entities will enrich the exercises planned in Africa concerning maritime awareness and maritime security on the West, East, and North coasts of Africa.

DATES: Submission of information is continuous on or before December 31, 2014.

ADDRESSES: Entities wishing to inform USAFRICOM of their work in Africa and their interest in sharing information and observing a maritime domain awareness exercise on the West, East, South and North Coasts of Africa in order to enhance USAFRICOM exercises may email africom.stuttgart.acj95.list.ppp-branch-mba@mail.mil or Ms. Stefanie Perkowski at Stefanie.c.perkowski.civ@mail.mil or call +49 711 729 4545 or Mr. Richard Parker at Richard.a.parker26.civ@mail.mil or call +49 711 729 2000 or write Attn: Branch Chief, Public Private Partnerships, Plieninger Strasse 289, Stuttgart Moehringen, 70567. Additional instructions will be provided after contact.

FOR FURTHER INFORMATION CONTACT: AFRICOM J9—Outreach Directorate, +49 711-729-3260 LtCol James Hensien or email james.r.hensien.mil@mail.mil.

SUPPLEMENTARY INFORMATION: Specifically, USAFRICOM seeks to include a limited number of local, national, and international public and private organizations, associations, and entities as observers into the USAFRICOM Express Series Exercises in order to familiarize U.S. forces and Host Nation Maritime forces with public and private entities which are often the first affected by maritime domain awareness and/or maritime security issues. USAFRICOM and African Host Nation Maritime forces seek to understand the objectives, capabilities, operating procedures, coordination processes, and information sharing tools of these organizations, associations, and entities. USAFRICOM and African Host Nation Maritime forces desire to eventually build collaborative relationships with non-federal entities and promote a sustainable unity of effort among these stakeholder public and private organizations, associations, and entities. Finally, USAFRICOM and African Host Nation Maritime forces desire to eliminate gaps in response, set standard operating processes and procedures for interaction, and promote understanding within the multi-faceted community of key maritime stakeholders.

Types of Public and Private Organizations Sought: Local, regional, and international public and private sector organizations, associations, and entities operating within USAFRICOM's area of responsibility (AOR) who are interested in working with African Host Nation Maritime forces, USAFRICOM, and African Regional Economic Communities on a non-reimbursable basis. Information and expressions of interest provided to USAFRICOM are not for the purposes of obtaining a contract nor would the information provided and expression of interest provided be a guarantee of exercise participation. Finally, exercise participation will not constitute endorsement by DoD or USAFRICOM.

There are no fees involved and no funding will be provided. Vetted and selected observers will be expected to provide their own travel to the organizing conference and exercise locations with a possibility of limited exceptions for African organizations. USAFRICOM may only provide publicly releasable information about USAFRICOM's mission and goals. If potential observers currently represent an entity that is under contract with the U.S. Government, the following information must be provided: (1) Confirmation that participation is not part of a contract and will not be billed to the U.S. government; (2) a written description of any current contracts with USAFRICOM, its components, subordinate commands, or Joint Task Forces; and (3) whether awaiting the result of any U.S. government acquisition process or contract award. The information sought and expressions of interest will be used to more effectively identify potential exercise observers for the USAFRICOM Express Series Exercises taking place in the U.S. Government's Fiscal Year 2013-2014.

Dated: June 10, 2013.
Aaron Siegel,
Alternate OSD Federal Register Liaison Officer, Department of Defense.

[FR Doc. 2013-14142 Filed 6-13-13; 8:45 am]

BILLING CODE 5001-06-P